FEDERAL COMMUNICATIONS COMMISSION

47 CFR Part 90

[WT Docket No. 02-55; FCC 21-41; FR ID 26200]

Improving Public Safety Communications in the 800 MHz Band

AGENCY: Federal Communications Commission.

ACTION: Final rule.

SUMMARY: In this document, the Federal Communications Commission (Commission) brings the Commission's 800 MHz rebanding program to a conclusion, eliminates rules that are now unnecessary, and terminates this proceeding. The rebanding process is now essentially complete: Over 2,100 800 MHz licensees have successfully relocated to new channels in the band and the few licensing and administrative matters remaining can be completed outside the rebanding program.

DATES: Effective June 14, 2021.

FOR FURTHER INFORMATION CONTACT: Roberto Mussenden, Policy and Licensing Division, Public Safety and Homeland Security Bureau, (202) 418-1428.

SUPPLEMENTARY INFORMATION: This is a summary of Commission's Order, in WT Docket No. 02-55 (Terminated); FCC 21-41, adopted and released on April 22, 2021. The full text of this document is available for public inspection online at https://docs.fcc.gov/public/attachments/FCC-21-41A1.pdf.

In 2004, the Commission's Report and Order (800 MHz Report and Order) (69 FR 67823, November 22, 2004) initiated the 800 MHz rebanding program to alleviate harmful interference to 800 MHz public safety radio systems caused by their proximity in the band to the 800 MHz commercial cellular architecture systems, principally those operated by Sprint. To alleviate the interference, the Commission reconfigured the 800 MHz band to increase the spectral separation between cellular architecture systems and so-called, high site systems occupying the band. The Commission adopted a band plan that required the relocation of the bulk of Sprint's system (and the other similarly situated cellular-based licensees) to spectrum at the upper end of the band, and the relocation of public safety licensees (and the other similarly situated high site system operators) to spectrum at the lower end of the band. The Commission further required Sprint to pay the accumulated relocation costs incurred by public safety and other high-site licensees in addition to its own relocation costs, in exchange for which the Commission awarded Sprint 10 megahertz of spectrum rights in the 1.9 GHz band. The 800 MHz Report and Order required that “at the conclusion of band reconfiguration, the Transition Administrator shall provide an accounting of the funds spent to reconfigure the systems of incumbent operators in the 800 MHz band. This accounting shall include certifications from each relocated licensee that all necessary reconfiguration work has been completed and that Nextel and said licensee agree on the sum paid for such work.” Those requirements have been either complied with or waived.

Nearly seventeen years after the 800 MHz Report and Order, the 800 MHz band reconfiguration program has achieved its objective—substantially alleviating the interference risk to public safety in the 800 MHz band. The 800 MHz Transition Administrator, LLC (Transition Administrator) reports that 2,169 licensees have successfully completed physical reconfiguration of their systems, and that only two licensees remain with unresolved administrative matters.

In the 800 MHz Report and Order, the Commission adopted certain rules specifically relating to implementation of the rebanding program. With termination of the rebanding program, there is no continued need for these rules and we therefore delete them. We conclude that this deletion does not require notice and comment. An agency may forego notice and comment rulemaking “when the agency for good cause finds . . . that notice and public procedure thereon are impracticable, unnecessary, or contrary to the public interest.” Here, notice and comment is unnecessary and contrary to the public interest because the termination of the rebanding program has rendered the rules moot in accordance with the Commission's rules and the foregoing waivers. As the rules no longer have any practical or legal effect, deleting them from the Code of Federal Regulations will avoid any potential confusion about their continuing applicability.

Paperwork Reduction Act

This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Congressional Review Act

The Commission has determined, and the Administrator of the Office of Information and Regulatory Affairs, Office of Management and Budget, concurs, that this rule is non-major under the Congressional Review Act, 5 U.S.C. 804(2). The Commission will send a copy of this Order to Congress and the Government Accountability Office, pursuant to 5 U.S.C. 801(a)(1)(A).

List of Subjects in 47 CFR Part 90

Administrative practice and procedure, Common carriers, Radio.

Federal Communications Commission.
Marlene Dortch,
Secretary.

Final Rules

For the reasons discussed in the preamble, the Federal Communications Commission amends 47 CFR part 90 as follows:

PART 90—PRIVATE LAND MOBILE RADIO SERVICES

1. The authority citation for part 90 continues to read:

Authority: 47 U.S.C. 154(i), 161, 303(g), 303(r), 332(c)(7), 1401-1473.

§ 90.674 Interference Resolution Procedures.

2. Revise the heading of § 90.674 to read as set forth above:

§§ 90.676 and 90.677 [Removed and Reserved]

3. Sections 90.676 and 90.677 are removed and reserved.

[FR Doc. 2021-10229 Filed 5-13-21; 8:45 am]

BILLING CODE 6712-01-P